DEPARTMENT OF AGRICULTURE

Forest Service

Medicine Bow-Routt National Forests and Thunder Basin National Grassland Jackson County, CO; Green Ridge Mountain Pine Beetle Analysis

AGENCY: Forest Service, USDA.

ACTION: Notice of intent to prepare an environmental impact statement.

SUMMARY: The Forest Service will prepare an Environmental Impact Statement (EIS) to analyze and disclose the environmental effects of a site specific proposal to salvage, reduce the spread and minimize further mortality from the existing mountain pine beetle epidemic, within the Green Ridge Mountain Pine Beetle Analysis Area of the Parks Ranger District of the Medicine Bow-Routt National Forests within Jackson County, Colorado. A small portion of the preventive treatments is proposed within an inventoried roadless area.

DATES: The draft environmental impact statement is expected to be filed with the Environmental Protection Agency (EPA) and available for public review during December 2002. At that time, the EPA will publish a Notice of Availability (NOA) of the draft EIS in the Federal Register. The comment period on the draft EIS will be for a period of not less than 45 days from the date the EPA publishes the NOA in the Federal Register. It is important that those interested in the management of this area to comment at that time.

The final EIS is expected to be available in March 2003. In the final EIS, the Forest Service will respond to any comments received during the public comment period that pertain to the environmental analysis. Those comments and the Forest Service responses will be disclosed and discussed in the final EIS and will be considered when the final decision about this proposal is made.

ADDRESSES: Send written comments to Terry DeLay, Brush Creek/Hayden Ranger District, PO Box 249, Saratoga, WY 82331. Electronic mail (e-mail) may be sent to tdelay@fs.fed.us and FAX may be sent to (307) 326-5250. Telephone: (307) 326-2518.

FOR FURTHER INFORMATION CONTACT: Mail correspondence to Terry DeLay, Brush Creek/Hayden Ranger District, PO Box 249, Saratoga, WY 82331, (telephone (307) 326-2518), or Chuck Oliver, District Ranger, Parks Ranger District, PO Box 158, Walden, CO 80480, (telephone (970) 723-2750). Electronic mail (e-mail) may be sent to tdelay@fs.fed.us and FAX may be sent to (307) 326-5250.

SUPPLEMENTARY INFORMATION:

Purpose and Need for Action

The purpose of this project is to reduce the spread of mountain pine beetle, salvage dead trees, and reforest affected areas on National Forest lands within the Green Ridge Analysis Area, in order to help protect forested areas on adjacent private land, and to alleviate potential negative effects of the beetle epidemic to the various resources on this portion of the Forest.

Proposed Action

The proposed action is a mix of protection, prevention, suppression, and restoration treatment activities geared to address the purpose and need of reducing the spread of mountain pine beetle on National Forest lands within the analysis area, including commercial timber sale, prescribed burning and precommercial thinning.

Responsible Official

Rick Cables, Regional Forester, USDA Forest Service, Rocky Mountain Region, 740 Simms Street, Golden, Colorado 80401, is the official responsible for making the decision on this action. He will document his decision and rationale in a Record of Decision.

Nature of Decision To Be Made

The Responsible Official will consider the results of the analysis and its findings and then document the final decision in a Record of Decision (ROD). The decision will include a determination whether or not to implement the proposed action or another alternative.

Scoping Process

The National Environmental Policy Act (NEPA) requires an early and open process for determining the scope of issues to be addressed and for identifying the significant issues related to the proposed action.

The Forest Service is soliciting comments during the scoping phase of the environmental analysis process from Federal, State and local agencies, Indian Tribes, and organizations and individuals who may be interested or affected by the decision. The analysis process will include:

1. Identification of the issues to be addressed.

2. Identification of the issues to be analyzed in detail.

3. Elimination of non-significant issues, issues addressed by previous environmental analyses, and issues not within the scope of this decision.

Public Involvement

Public scoping describing the Green Ridge Mountain Pine Beetle Analysis Area was initiated on July 31, 2002. Comments from scoping efforts will be reviewed to identify potential issues for this analysis. While comments are welcome at any time, comments received within 30 days of the publication of this notice in the Federal Register will be most useful for the identification of issues and the analysis of alternatives. As previously mentioned, comments may be sent by electronic mail (e-mail) to tdelay@fs.fed.us. Written comments may be mailed to the Brush Creek/Hayden Ranger District, PO Box 249, Saratoga, WY 82331, Attention: Terry DeLay. Please reference the Green Ridge Mountain Pine Beetle Analysis EIS on the subject line. The name and mailing address of the commenter should be provided with their comments so that future documents pertaining to this environmental analysis and the decision can be provided to interested parties.

Preliminary Issues

The following potential issues and concerns were identified through internal scoping:

(1) Beetle treatments within an inventoried roadless area, (2) beetle spread from National Forest to adjacent private lands, (3) cumulative impacts of past and proposed treatments, and (4) the Federal Register listed the town of Rand, Colorado, as one of the communities nationwide that are at risk from wildfire(s).

Release of Names

Comments received in response to this solicitation, including names and addresses of those who comment, will be considered part of the public record on this Proposed Action and will be available for public inspection. Comments submitted anonymously will be accepted and considered; however, those who submit anonymous comments will not have standing to appeal the subsequent decision under 36 CFR parts 215 or 217. Additionally pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality, and where the request is denied, the agency will return the submission and notify the requester that the comments may be resubmitted with or without name and address within ten (10) days.

Early Notice of Importance of Public Participation in Subsequent Environmental Review

A draft environmental impact statement will be prepared for comment. The comment period on the draft environmental impact statement will be 45 days from the date the Environmental Protection Action publishes the notices of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised during the draft environmental impact statement stage, but are not raised until after completion of the final environmental impact statement, may be waived or dismissed by the courts. City of Angoon v. Hodel, 803 F.2d 1016, 1022 (9th Cir. 1986) and Wisconsin Heritages, Inc. v. Harris, 490 F.Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns related to the proposed action, comments on the draft environmental impact statement should be as specific as possible. It is also helpful if comments refer to specific pages or chapters of the draft document. Comments may also address the adequacy of the draft environmental impact statement or the merits of the alternatives displayed in the document. Reviewers should refer to the Council on Environmental Quality Regulations at 40 CFR 1503.3 for implementing the procedural provisions of the National Environmental Policy Act for addressing these points.

Dated: August 2, 2002.
Rick D. Cables,
Regional Forester.

[FR Doc. 02-21452 Filed 8-21-02; 8:45 am]

BILLING CODE 3410-11-M